FEDERAL COMMUNICATIONS COMMISSION

Notice of Public Information Collection(s) Being Reviewed by the Federal Communications Commission for Extension Under Delegated Authority, Comments Requested

December 18, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 26, 2001. If you anticipate that you will be submitting comments, but find it difficult to do so within the period of time allowed by this notice, you should advise the contact listed below as soon as possible.

ADDRESSES: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control No.: 3060-0253.

Title: Part 68—Connection of Telephone Equipment to the Telephone Network (Sections 68.106, 68.108, 68.110).

Form No.: N/A.

Type of Review: Extension.

Respondents: Business or other for profit.

Number of Respondents: 57,540.

Estimated Time Per Response: .057 hours per response (avg).

Total Annual Burden: 3,270.

Estimated Annual Reporting and Recordkeeping Cost Burden: 0.

Frequency of Response: On occasion.

Needs and Uses: Part 68 sets forth the terms and conditions for connection and for the registration of customer provided terminal equipment. Section 68.106 requires customers connecting terminal equipment or protective circuitry to the telephone network to provide, upon request, the particular lines to which such connection is made, the FCC registration number and ringer equivalence numbers necessary to the telephone company. Section 68.108 requires telephone companies to notify customers of possible discontinuance of service when customer's equipment is malfunctioning and to inform them of their right to file a complaint. Section 68.110 requires telephone companies to provide technical information concerning inter-face parameters not specified in Part 68 and notify customers of changes in telephone company facilities, equipment, operations or procedures where such changes can be reasonably expected to render any customer's terminal equipment incompatible with the telephone company's communication facilities. The purpose of this is to prevent harm to the telephone network and degradation of our telephone service.

OMB Control No.: 3060-0807.

Title: 47 CFR Section 51.803 and Supplemental Procedures for Petitions Pursuant to Section 252(e)(5) of the Communications Act of 1934, as amended.

Form: N/A.

Type of Review: Extension.

Respondents: Business or other for profit.

Number of Respondents: 52.

Estimated Time Per Response: 40.8.

Total Annual Burden: 2,040 hrs.

Estimated Annual Reporting and Recordkeeping Cost Burden: 0.

Frequency of Response: On occasion.

Needs and Uses: In response to petitions seeking preemption pursuant to section 252(e)(5) of the Communications Act of 1934, as amended, the Commission implemented procedures to help ensure the expeditious processing of petitions filed pursuant to section 252(e)(5). Any interested party seeking preemption of a state commission's jurisdiction based on the state commission's failure to act shall notify the Commission as follows: (1) file with the secretary of the Commission a detailed petition, supported by an affidavit, that states with specificity the basis for any claim that it has failed to act; and (2) serve the state commission and other parties to the proceeding on the same day that the party serves the petition on the Commission. Within 15 days of the filing of the petition, the state commission and parties to the proceeding may file a response to the petition.

OMB Control No.: 3060-0439.

Title: Regulations Concerning Indecent Communications by Telephone.

Form No.: N/A.

Type of Review: Extension.

Respondents: Business or other for profit.

Number of Respondents: 10,200.

Estimated Time Per Response: .13 hours per response (avg) (about 8 minutes).

Total Annual Burden: 1,632 hours.

Estimated Annual Reporting and Recordkeeping Cost Burden: 0.

Frequency of Response: On occasion.

Needs and Uses: Section 223 requires telephone companies, to the extent technically feasible, to prohibit access to indecent communications from the telephone of a subscriber who has not previously requested access. Section 64.201 implements Section 223 and contains several information collection requirements: (1) A requirement that certain common carriers block access to indecent messages unless the subscriber seeks access from the common carrier (telephone company) in writing; (2) a requirement that adult message service providers notify their carriers of the nature of their programming; and (3) a requirement that a provider of adult message services request that their carriers identify it as such in bills to its subscribers. The information requirements are imposed on carriers, adult message service providers, and those who solicit their services to ensure that minors are denied access to material deemed indecent. The information collections are necessary for the Commission to fulfill its mandate under Section 223 of the Communications Act.

Federal Communications Commission.

Magalie Roman Salas,
Secretary.

[FR Doc. 00-32787 Filed 12-22-00; 8:45 am]

BILLING CODE 6712-01-P